INTERNATIONAL TRADE COMMISSION

[Investigation No. 731-TA-856 (Final)]

Certain Ammonium Nitrate From Russia

AGENCY: International Trade Commission.

ACTION: Cancellation of hearing, posthearing briefs, and final comments.

SUMMARY: On May 19, 2000, the Department of Commerce informed the Commission that a suspension agreement had been signed in the subject investigation. Accordingly, the Commission hereby cancels the hearing on the investigation currently scheduled for May 25, 2000, the posthearing briefs currently due on June 1, 2000, and the final comments currently due on June 22, 2000. The Commission unanimously determined that no earlier announcement of this cancellation was possible.

EFFECTIVE DATE: May 22, 2000.

FOR FURTHER INFORMATION CONTACT: Karen Taylor (202-708-4101), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov).

Authority: This investigation is being conducted under authority of title VII of the Tariff Act of 1930; this notice is published pursuant to section 207.21 of the Commission's rules (19 CFR § 207.21).

Issued: May 22, 2000.
By order of the Commission.
Donna R. Koehnke,
Secretary.

[FR Doc. 00-13267 Filed 5-25-00; 8:45 am]

BILLING CODE 7020-02-P